SMALL BUSINESS ADMINISTRATION

[Declaration of Disaster #3576]

State of Missouri

Cass County and the contiguous counties of Bates, Henry, Jackson, and Johnson in the State of Missouri, and Johnson and Miami counties in the State of Kansas constitute a disaster area due to damages caused by heavy rain and subsequent flash flooding that occurred on May 18 and 19, 2004. Applications for loans for physical damage may be filed until the close of business on July 26, 2004, and for economic injury until the close of business on February 26, 2005, at the address listed below or other locally announced locations: U.S. Small Business Administration, Disaster Area 3 Office, 14925 Kingsport Road, Fort Worth, TX 76155.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 357606 for Missouri and 358106 for Kansas; and for economic damage is 9ZE600 for Missouri and 9ZE700 for Kansas.

(Catalog of Federal Domestic Assistance Program Nos. 59002 and 59008)
Dated: May 26, 2004.
Hector V. Barreto,
Administrator.

[FR Doc. 04-12516 Filed 6-2-04; 8:45 am]

BILLING CODE 8025-01-P